DEPARTMENT OF COMMERCE

National Oceanic and Atmospheric Administration

[I.D. 060303E]

Marine Mammals; File No. 545-1488

AGENCY: National Marine Fisheries Service (NMFS), National Oceanic and Atmospheric Administration (NOAA), Commerce.

ACTION: Issuance of permit amendment.

SUMMARY: Notice is hereby given that Craig Matkin, North Gulf Oceanic Society, 60920 Mary Allen Avenue, Homer, AK 99603, has been issued an amendment to scientific research Permit No. 545-1488-01.

ADDRESSES: The amendment and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Jill Lewandowski or Carrie Hubard, (301)713-2289.

SUPPLEMENTARY INFORMATION: On January 21, 2003, notice was published in the Federal Register (68 FR 2751) that an amendment of Permit No. 545-1488, issued May 7, 1999 (64 FR 24592), had been requested by the above-named organization. The requested amendment has been granted under the authority of the Marine Mammal Protection Act of 1972, as amended (16 U.S.C. 1361 et seq.) and the Regulations Governing the Taking and Importing of Marine Mammals (50 CFR part 216).

The permit amendment adds the deployment of tags (short-term radio, satellite, acoustic recording, and underwater video tags) by close approach and biopsy sampling on the following species (except where noted in parantheses, additional annual takes beyond those already authorized under Permit No. 545-1488 include 150 photo-identification, 25 tagging and 30 biopsy sampling per species per year): killer whale (60 tagged and 64 biopsy sampled individuals per year), gray whale, harbor porpoise, Dall's porpoise, Pacific white-sided dolphin, Baird's beaked whale, Cuvier's beaked whale and Stejneger's beaked whales. The purpose of the amendment, as noted in the application, is to examine diving behavior, feeding, and movements of whales and to obtain information on elusive and rarely studied species.

Dated: July 2, 2003.
Stephen L. Leathery,
Chief, Permits, Conservation and Education Division, Office of Protected Resources, National Marine Fisheries Service.

[FR Doc. 03-17241 Filed 7-8-03; 8:45 am]

BILLING CODE 3510-22-S